DEPARTMENT OF COMMERCE

National Oceanic and Atmospheric Administration

50 CFR Part 622

[Docket No. 041105308-4308-01; I.D. 110304B]

RIN 0648-AS88

Fisheries of the Caribbean, Gulf of Mexico, and South Atlantic; Reef Fish Resources of the Gulf of Mexico; Commercial Reef Fish Fishery of the Gulf of Mexico; Control Date

AGENCY: National Marine Fisheries Service (NMFS), National Oceanic and Atmospheric Administration (NOAA), Commerce.

ACTION: Advance notice of proposed rulemaking; control date for Gulf of Mexico grouper landings.

SUMMARY: This notice announces that the Gulf of Mexico Fishery Management Council (GMFMC) is considering the establishment of an individual fishing quota (IFQ) to control participation or effort in the commercial grouper fishery of the Gulf of Mexico. If an IFQ is established, the GMFMC is considering October 15, 2004, as a possible control date regarding the eligibility of catch histories in the commercial grouper fishery.

DATES: Comments must be submitted by December 16, 2004.

ADDRESSES: You may submit comments on this notice of control date by any of the following methods:

• E-mail: 0648-AS88.Proposed@noaa.gov. Include in the subject line the following document identifier: 0648-AS88.Proposed.

• Federal e-Rulemaking Portal: http://www.regulations.gov. Follow the instructions for submitting comments.

• Mail: Steve Branstetter, Southeast Regional Office, NMFS, 9721 Executive Center Drive N., St. Petersburg, FL 33702.

• Fax: 727-570-5583, Attention: Steve Branstetter.

FOR FURTHER INFORMATION CONTACT: Steve Branstetter, 727-570-5305.

SUPPLEMENTARY INFORMATION: The commercial fishery for grouper in the Gulf of Mexico is managed under the Fishery Management Plan for the Reef Fish Resources of the Gulf of Mexico (FMP). The FMP was prepared by the GMFMC, and implemented under the authority of the Magnuson-Stevens Fishery Conservation and Management Act. A moratorium on the issuance of new commercial reef fish permits was established by Amendment 4 to the FMP in May 1992. The moratorium has been maintained since that time with the implementation of Amendments 9, 11, and 17, and is scheduled to expire on December 31, 2005. The GMFMC is currently finalizing Amendment 24 to the FMP that would again extend the moratorium.

The GMFMC anticipates that additional future action may be necessary to control effort in the Gulf of Mexico grouper fishery by further restricting the number of participants. The GMFMC has been advised by NMFS that the grouper resources of the Gulf EEZ are fully exploited, especially red grouper and the aggregate of deep-water groupers, and the fisheries currently operate under restrictive quotas. As such, the GMFMC is concerned that the current level of participation and effort in the grouper fishery of the Gulf of Mexico may not be maximizing the economic benefits that could be derived from the resource and that future increases in participation or effort could further reduce economic benefits. In anticipation of future action to establish an IFQ for the grouper fishery of the Gulf of Mexico, at its October 2004 meeting, the GMFMC approved a motion stating:

In order to discourage acceleration in the grouper fishery to develop a catch history, the Council records its intent to only use catch histories prior to October 15, 2004, when developing a grouper IFQ. The Council requests NOAA Fisheries to publish this as a control date.

Should the GMFMC take future action to further restrict participation in the fishery, it may use October 15, 2004, as a possible control date regarding the eligibility of catch histories. Implementation of any program to restrict access in the grouper fishery would require preparation of an amendment to the FMP and publication of a notice of availability of the amendment with a comment period, publication of a proposed rule with a public comment period, approval of the amendment, and issuance of a final implementing rule.

Consideration of a control date does not commit the GMFMC or NMFS to any particular management regime or criteria for eligibility in the commercial grouper fishery. The GMFMC may or may not make use of this control date as part of the qualifying criteria for participation in any future IFQ or other management program for the Gulf of Mexico grouper fishery. Fishermen are not guaranteed future participation in a fishery regardless of their entry date or intensity of participation in the fishery before or after the control date under consideration. The GMFMC subsequently may choose a different control date or a management regime that does not make use of a control date. The GMFMC also may choose to take no further action to control entry or access to the fisheries, in which case the control date may be rescinded.

Authority: 16 U.S.C. 1801 et seq.

Dated: November 10, 2004.
Rebecca Lent,
Deputy Assistant Administrator for Regulatory Programs, National Marine Fisheries Service.

[FR Doc. 04-25429 Filed 11-15-04; 8:45 am]

BILLING CODE 3510-22-S